DEPARTMENT OF THE INTERIOR

Fish and Wildlife Service

Missisquoi National Wildlife Refuge, Swanton, Franklin County, VT

AGENCY: Fish and Wildlife Service, Interior.

ACTION: Notice of availability: final comprehensive conservation plan and finding of no significant impact.

SUMMARY: We, the U.S. Fish and Wildlife Service (Service), announce the availability of the final Comprehensive Conservation Plan (CCP) and Finding of No Significant Impact for Missisquoi National Wildlife Refuge (NWR). Prepared in conformance with the National Wildlife Refuge System Administration Act of 1966, as amended by the National Wildlife Refuge System Improvement Act of 1997 (16 U.S.C. 668dd et seq.), and the National Environmental Policy Act of 1969 (42 U.S.C. 4321 et seq.), the plan describes how we intend to manage the refuge over the next 15 years.

ADDRESSES: You may obtain copies of this CCP on compact disk or in print by writing to Missisquoi NWR, 29 Tabor Road, Swanton, Vermont, 05488, telephone 802-868-4781. You may also access and download a copy from the Web sites http://library.fws.gov/ccps.htm or http://missisquoirefuge.fws.gov.

FOR FURTHER INFORMATION CONTACT: Mark Sweeny, Refuge Manager, Missisquoi NWR, at 802-868-4781, or by electronic mail at Mark_Sweeny@fws.gov.

SUPPLEMENTARY INFORMATION: The National Wildlife Refuge System Administration Act of 1996, as amended by the National Wildlife Refuge System Improvement Act of 1997 (16 U.S.C. 668 dd et seq.), requires CCPs for all refuges to provide refuge managers with 15-year strategies for achieving refuge purposes and furthering the mission of the National Wildlife Refuge System (NWRS). Developing CCPs is done according to the sound principles of fish and wildlife science and laws, while adhering to Service planning and related policies. In addition to outlining broad management direction on conserving refuge wildlife and habitat, CCPs identify wildlife-dependent recreational opportunities available to the public, including opportunities for hunting, fishing, wildlife observation and photography, and environmental education and interpretation. We will review and update this CCP at least once every 15 years.

Missisquoi NWR spans over 6,592 acres, lies on the eastern shore of Lake Champlain near the Canadian border in Franklin County, Vermont, and includes most of the Missisquoi River Delta, the largest wetland complex in the Lake Champlain Basin. As it flows through the refuge, the Missisquoi River is bordered by the largest and perhaps highest quality silver maple floodplain forest remaining in the State. The river meanders through extensive natural and managed emergent marshes of wild rice, buttonbush, and tussock sedge that host thousands of waterfowl during migration. That part of the river harbors rare freshwater mussels, spiny soft-shell turtles, and fish. Refuge lands protect the Shad Island great blue heron rookery, the largest colony in Vermont, and the entire nesting population of black terns in the State. The Service acquired most of the refuge under authority of the Migratory Bird Conservation Act of 1929 (16 U.S.C. 715-715r) for “use as an inviolate sanctuary, or for any other management purposes, for migratory birds” and the Fish and Wildlife Act of 1956 (16 U.S.C. 742f(a)(1)) for the development, advancement, management, conservation, and protection of fish and wildlife resources.

We distributed a draft CCP/Environmental Assessment (EA) for public review and comment for 38 days between March 22 and April 30, 2007. Its distribution was announced in the Federal Register on March 16, 2007 (Volume 72, Number 51, Pages 12632-12633). That draft analyzed two alternatives for managing the refuge. We also held one public meeting on March 31, 2007, to obtain public comments. We received 105 comments from local towns, conservation and recreational organizations, and local residents. Appendix L of the final CCP includes a summary of those comments and our responses to them.

We selected Alternative B (the Service-proposed action) from the draft CCP/EA as the alternative for implementation. Our final CCP fully describes its details. Staff from Missisquoi NWR headquarters office in Swanton, Vermont, will continue to administer the refuge. Highlights of the final CCP include:

(1) Greater inventory, monitoring, and management of the Missisquoi River Delta wetlands (floodplain forest, lakeshore and river shore wetlands, impoundments, rivers and creeks, bays, bogs, swamps, vernal pools, and scrub-shrub habitat) to maintain their ecological integrity for the rich diversity of plants and animals on the refuge.

(2) Better management of high-quality grasslands, shrublands, and other early successional habitats for a range of wildlife species of conservation concern.

(3) Enhanced programs of outreach and environmental education and interpretation to raise public awareness and involvement in the protection and stewardship of refuge wildlife and habitats.

(4) Enhanced wildlife-dependent recreational opportunities (wildlife observation and photography, hunting, and fishing) that provide quality experiences for refuge visitors and protect wildlife and their habitats.

(5) Greater inventory, protection, and interpretation of the rich cultural history of the Missisquoi River delta and enhanced partnerships with the local Abenaki Tribe and other interested communities.

(6) Cooperative partnerships within the northern Lake Champlain Basin, including the Missisquoi River watershed, working toward better water quality, improved land stewardship, and greater protection of fish and wildlife resources.

(7) A Geographical Information System (GIS) that contains current data on refuge biological resources that will more effectively and efficiently guide habitat and species management.

(8) An inventory of aquatic and upland invasive species that track annual distribution and control methods, and management results of these nuisance species on the refuge and in Missisquoi Bay.

(9) In partnership with others, the protection of additional lands and waters, particularly intact, fully functioning wetlands and associated riparian areas and lands that maintain and expand the protection of large, unfragmented blocks of upland habitat for area-sensitive wildlife species.

(10) In lieu of a fee, visitors will be encouraged to make voluntary contributions at collection boxes at the trailheads and boat launch sites. We will work with the Friends of Missisquoi NWR to develop a voluntary annual refuge pass to raise additional funds for trail maintenance, informational kiosks, educational programs, and other actions to benefit all visitors to the refuge.

(11) A critical new law enforcement position to enhance staff and visitor safety, ensure compliance with regulations, and maintain communications with Homeland Security, given the refuge's proximity to the International border and active recreational community in the Missisquoi Bay and river.

(12) Other new critical positions, including a park ranger, maintenance worker, and biological technician, to maximize the use and effectiveness of the new visitor center and associated interpretive trails, ensure safe, quality refuge experiences through well-maintained facilities, ensure our use of the best available science in conserving and managing the fish and wildlife resources and their habitats, and ensure that public uses are compatible with the “wildlife first” mission of the NWRS.

Dated: September 14, 2007.
Thomas J. Healy,
Acting Regional Director, U.S. Fish and Wildlife Service, Hadley, Massachusetts.

[FR Doc. E7-18542 Filed 9-20-07; 8:45 am]

BILLING CODE 4310-55-P